DEPARTMENT OF TRANSPORTATION

Federal Motor Carrier Safety Administration

49 CFR Parts 390 and 396

[Docket No. FMCSA-98-3656]

RIN 2126-AA38

General Requirements; Inspection, Repair, and Maintenance; Intermodal Container Chassis and Trailers

AGENCY: Federal Motor Carrier Safety Administration (FMCSA), DOT.

ACTION: Notice of extension of comment period.

SUMMARY: The FMCSA is extending the comment period while it continues to explore the feasibility of conducting a negotiated rulemaking (Reg Neg) concerning maintenance of intermodal container chassis and trailers. The FMCSA has hired a convenor to speak to interested parties about the idea of a Reg Neg. The American Association of Railroads (AAR) has requested an extension of time to give a working group additional time to determine if a private-sector solution can be developed. The FMCSA is granting the AAR's request.

DATES: Please submit your comments by April 10, 2003.

ADDRESSES: Please mail or hand deliver comments about this notice to the U.S. Department of Transportation, Dockets Management Facility, Room PL-401, 400 Seventh Street, SW., Washington, DC 20590; fax to the Docket Management Facility at 202-493-2251; or submit electronically at http://dms.dot.gov. Please include the docket number that appears in the heading of this document in your comments. You can copy or examine all comments received at the above street address from 9 a.m. to 5 p.m., e.t., Monday through Friday, except Federal holidays and on-line at http://dms.dot.gov. If you want notification of receipt of comments please include a self-addressed, stamped postcard.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). This statement is also available at http://dms.dot.gov.

FOR FURTHER INFORMATION CONTACT: Ms. Deborah M. Freund, Vehicle and Roadside Operations Division (MC-PSV), Office of Bus and Truck Standards and Operations, (202) 366-4009, Federal Motor Carrier Safety Administration, 400 Seventh Street, SW., Washington, DC 20590. Office hours are from 7:45 a.m. to 4:15 p.m., e.t., Monday through Friday, except Federal holidays.

SUPPLEMENTARY INFORMATION: On November 29, 2002, the FMCSA published a notice that it is studying the feasibility of using the Reg Neg process to develop a rulemaking action concerning the maintenance of intermodal container chassis and trailers.

On January 13, 2003, counsel for the AAR filed a request for an extension of the comment period to allow additional time for filing comments after a planned January 22 meeting of the Intermodal Association of North America (IANA) and the Ocean Carrier Equipment Management Association (OCEMA).

The IANA/OCEMA working group has been engaged in developing a private-sector solution to the assignment of responsibility for maintaining intermodal chassis and trailers. The outcome of the IANA/OCEMA discussions could well influence the FMCSA's decision to proceed with a negotiated rulemaking activity. Although IANA and OCEMA do not invite the FMCSA to its meetings, the agency believes that its working group is making important progress, and that additional meetings taking place in early 2003 may produce a private-sector solution acceptable to IANA, OCEMA, AAR, and other parties involved in the provision and maintenance of intermodal equipment.

On January 30, 2003, the AAR requested the agency refrain from instituting a negotiated rulemaking proceeding until after April 1, 2003, to provide the working group additional time to determine if a private-sector solution can be developed.

Based on this information, the FMCSA grants the AAR's request to extend the comment period. The FMCSA is extending the comment period an additional 45 days, until April 10, 2003. This extension will also allow the agency's contracted convenor to gather additional information and provide a more comprehensive report to assist the agency in deciding whether it should institute a negotiated rulemaking proceeding.

The FMCSA will continue to provide any comments it receives in reaction to the November 29, 2002, notice to the convenor and will file the comments in docket FMCSA-98-3656. If you want to submit comments to this notice directly to the docket, use the addresses above under the heading ADDRESSES.

All comments received before the close of business on the comment closing date shown above will be considered and will be available for examination in the FMCSA Docket at the above address. Comments received after the comment closing date will be filed in the FMCSA Docket identified above and will be considered to the extent practicable, but the FMCSA may issue a convenor's report anytime after the close of the comment period. In addition to late comments, the FMCSA will also continue to file in the docket relevant information that becomes available after the comment closing date, and interested persons should continue to examine the docket for new material.

If you would like to file a request for an additional extension of time to comment in accordance with 49 CFR 389.19, please submit it to the address in § 389.31.

Issued on: February 13, 2003.
Pamela M. Pelcovits,
Acting Associate Administrator for Policy and Program Development.

[FR Doc. 03-4228 Filed 2-21-03; 8:45 am]

BILLING CODE 4910-EX-P